DEPARTMENT OF COMMERCE

Foreign-Trade Zones Board

[B-45-2023]

Foreign-Trade Zone (FTZ) 107, Notification of Proposed Production Activity; Lely North America, Inc.; (Automated Milking and Feeding Equipment); Pella, Iowa

Lely North America, Inc. submitted a notification of proposed production activity to the FTZ Board (the Board) for its facility in Pella, Iowa within Subzone 107E. The notification conforming to the requirements of the Board's regulations (15 CFR 400.22) was received on July 7, 2023.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials and components include: plastic components (edge trim; hose; wire loom; grate; door handle; washer; cable clip; feed bin cover; label; housing; rivet; bushing; leg base; Y-piece tube; divider plate; bumper; cap; cord; hose bracket; hose protector; spiral wrap; shut-off valve; cable gland; spacer); silicone components (teat cup sleeve; milk jar head); assemblies (roller; wheel; wire strand; three-way valve; motor; powerbox); rubber components (bumper; edge trim; stop; grommet; spacer); cardboard boxes; nylon components (strap; bushing); steel components (coupler; plug; coupling; rivet; key; ring; manifold; spacer ring; hopper; grate; hinge; door; funnel; shock absorber; bushing; tube; feed bin; yoke; three-way valve); stainless steel components (hook; bolt; screw; concrete anchor bolt; knob; nut; washer; lower arm cover); wire ferrules; door keys; electronic input output control modules; spherical rod ends; boilers; and, cables (duty rate ranges from duty-free to 9.9%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is August 28, 2023.

A copy of the notification will be available for public inspection in the “Online FTZ Information System” section of the Board's website.

For further information, contact Juanita Chen at juanita.chen@trade.gov.

Dated: July 11, 2023.
Elizabeth Whiteman,
Executive Secretary.

[FR Doc. 2023-15052 Filed 7-14-23; 8:45 am]

BILLING CODE 3510-DS-P